DEPARTMENT OF TRANSPORTATION

National Highway Traffic Safety Administration

[Docket No. NHTSA-2019-0005]

Decision That Certain Nonconforming Motor Vehicles Are Eligible for Importation

AGENCY: National Highway Traffic Safety Administration (NHTSA), Department of Transportation (DOT).

ACTION: Grant of petitions.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and are capable of being readily altered to conform to the standards.

DATES: These decisions became applicable on the dates specified in Annex A.

FOR FURTHER INFORMATION CONTACT: Neil Thurgood, Office of Vehicle Safety Compliance, NHTSA (202-366-0712).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR part 593.7, NHTSA publishes notice in the Federal Register of each petition that it receives, and affords interested persons an opportunity to comment on the petition. At the close of the comment period, NHTSA decides, on the basis of the petition and any comments that it has received, whether the vehicle is eligible for importation. The agency then notifies the petitioner of its decision by letter and publishes public notification of the decision in the Federal Register.

NHTSA received petitions from registered importers (RIs) to decide whether the vehicles listed in Annex A to this notice are eligible for importation into the United States. To afford an opportunity for public comment, NHTSA published notice of these petitions as specified in Annex A. The reader is referred to those notices for a thorough description of the petitions.

Comments: No substantive comments were received in response to the petitions identified in Annex A.

NHTSA Decision: Accordingly, on the basis of the foregoing, NHTSA hereby decides that each motor vehicle listed in Annex A to this notice, which was not originally manufactured to comply with all applicable FMVSS, is substantially similar to a motor vehicle manufactured for importation into and/or sale in the United States and certified by its manufacturer under 49 U.S.C. 30115, as specified in Annex A, and is capable of being readily altered to conform to all applicable FMVSS.

NHTSA has also concluded that each RI who imports and modifies a vehicle under one of the subject vehicle eligibility numbers for the first time must include in the statement of conformity and associated documents (“conformity package”) it submits to the NHTSA under 49 CFR part 592.6(d) explicit proof to confirm that the vehicle was, where applicable, originally manufactured to conform to, or was successfully altered to conform to, FMVSS No. 101, Controls and Displays, FMVSS No. 138, Tire Pressure Monitoring Systems, FMVSS No. 208, Occupant Crash Protection, and FMVSS No. 301, Fuel System Integrity. This proof must include detailed descriptions of all modifications made, including a detailed description of systems in place (if any) on the vehicle as delivered to the RI, and a similarly detailed description of alterations made to the vehicle and said systems, including photographs of all required labeling. The descriptions must also include parts assembly diagrams and associated part numbers for all components that were removed from or installed in the vehicle, an accounting of any computer programming modifications undertaken, and a description of how compliance was verified after alteration of the vehicle.

Vehicle Eligibility Number for Subject Vehicles: In order to import a vehicle made admissible under any final decision, the importer must indicate to U.S. Customs and Border Protection that the vehicle has been determined eligible for importation. This is done by indicating the eligibility number, published under that final decision, on DOT declaration form HS-7. Vehicle eligibility numbers assigned to vehicles admissible under this decision are specified in Annex A.

Authority: 49 U.S.C. 30141(a)(1)(A), (a)(1)(B) and (b)(1); 49 CFR 593.7; delegations of authority at 49 CFR 1.95 and 501.8.

Michael A. Cole,
Acting Director, Office of Vehicle Safety Compliance.

Annex A—Nonconforming Motor Vehicles Decided To Be Eligible for Importation

1. Docket No. NHTSA-2017-0029

Nonconforming Vehicles: 2014 BMW X3 Multipurpose Passenger Vehicles

Substantially Similar U.S. Certified Vehicles: 2014 BMW X3 Multipurpose Passenger Vehicles

Notice of Petition Published at: 83 FR 32708 (July 13, 2018)

Vehicle Eligibility Number: VSP-598 (effective date September 7, 2018)

2. Docket No. NHTSA-2017-0074

Nonconforming Vehicles: 2012 Mercedes Benz CLS 63 AMG Passenger Cars, manufactured for the Mexican market

Substantially Similar U.S. Certified Vehicles: 2012 Mercedes Benz CLS 63 AMG Passenger Cars

Notice of Petition Published at: 83 FR 31033 (July 2, 2018)

Vehicle Eligibility Number: VSP-599 (effective date September 7, 2018)

3. Docket No. NHTSA-2018-0011

Nonconforming Vehicles: 2013 Porsche Panamera Passenger Cars

Substantially Similar U.S. Certified Vehicles: 2013 Porsche Panamera Passenger Cars

Notice of Petition Published at: 83 FR 35053 (July 24, 2018)

Vehicle Eligibility Number: VSP-600 (effective date September 7, 2018)

4. Docket No. NHTSA-2018-0007

Nonconforming Vehicles: 2016 Mercedes-Benz GL500 Multipurpose Passenger Vehicles

Substantially Similar U.S. Certified Vehicles: 2016 Mercedes-Benz GL500 Multipurpose Passenger Vehicles

Notice of Petition Published at: 83 FR 61719 (November 30, 2018)

Vehicle Eligibility Number: VSP-601 (effective date February 22, 2019)

5. Docket No. NHTSA-2018-0008

Nonconforming Vehicles: 2016 Chevrolet Equinox Multipurpose Passenger Vehicles

Substantially Similar U.S. Certified Vehicles: 2016 Chevrolet Equinox Multipurpose Passenger Vehicles

Notice of Petition Published at: 83 FR 61713 (November 30, 2018)

Vehicle Eligibility Number: VSP-602 (effective date February 22, 2019)

6. Docket No. NHTSA-2018-0029

Nonconforming Vehicles: 2015 Chevrolet Silverado Trucks

Substantially Similar U.S. Certified Vehicles: 2015 Chevrolet Silverado Trucks

Notice of Petition Published at: 83 FR 61714 (November 30, 2018)

Vehicle Eligibility Number: VSP-603 (effective date February 22, 2019)

7. Docket No. NHTSA-2018-0014

Nonconforming Vehicles: 2005 Chevrolet Corvette Passenger Cars

Substantially Similar U.S. Certified Vehicles: 2005 Chevrolet Corvette Passenger Cars

Notice of Petition Published at: 83 FR 61711 (November 30, 2018)

Vehicle Eligibility Number: VSP-604 (effective date February 22, 2019)

8. Docket No. NHTSA-2018-0013

Nonconforming Vehicles: 2015 Bentley Continental Passenger Cars

Substantially Similar U.S. Certified Vehicles: 2015 Bentley Continental Passenger Cars

Notice of Petition Published at: 83 FR 61710 (November 30, 2018)

Vehicle Eligibility Number: VSP-605 (effective date February 22, 2019)

9. Docket No. NHTSA-2018-0069

Nonconforming Vehicles: 2008 Jeep Grand Cherokee Multipurpose Passenger Vehicles

Substantially Similar U.S. Certified Vehicles: 2008 Jeep Grand Cherokee Multipurpose Passenger Vehicles

Notice of Petition Published at: 83 FR 61715 (November 30, 2018)

Vehicle Eligibility Number: VSP-606 (effective date February 22, 2019)

10. Docket No. NHTSA-2018-0070

Nonconforming Vehicles: 2011 Mercedes-Benz GL550 Multipurpose Passenger Vehicles (CMVSS Certified)

Substantially Similar U.S. Certified Vehicles: 2011 Mercedes-Benz GL550 Multipurpose Passenger Vehicles

Notice of Petition Published at: 83 FR 61718 (November 30, 2018)

Vehicle Eligibility Number: VSP-607 (effective date February 22, 2019)

11. Docket No. NHTSA-2018-0088

Nonconforming Vehicles: 2015 Ferrari 458 Speciale Aperta Passenger Cars

Substantially Similar U.S. Certified Vehicles: 2015 Ferrari 458 Speciale Aperta Passenger Cars

Notice of Petition Published at: 83 FR 61717 (November 30, 2018)

Vehicle Eligibility Number: VSP-608 (effective date February 22, 2019)

[FR Doc. 2019-04371 Filed 3-8-19; 8:45 am]

BILLING CODE 4910-59-P